DEPARTMENT OF TRANSPORTATION

Federal Aviation Administration

[FAA-2021-0007]

Notice of Availability of the Las Vegas Metroplex Project Written Re-Evaluation/Record of Decision for Changes to the Final Environmental Assessment Designs

AGENCY: Federal Aviation Administration (FAA), Department of Transportation.

ACTION: Notice of availability of the Written Re-evaluation/Record of Decision (WR/ROD).

SUMMARY: The FAA is issuing this notice to advise the public that it has issued a WR/ROD for changes to the Las Vegas Metroplex Project Final Environmental Assessment (EA) Design for five flight procedures.

FOR FURTHER INFORMATION CONTACT: Emily Sturnfield, Operations Support Group, Northwest Mountain Regional Office, Federal Aviation Administration, 2200 216th Street, Des Moines, Washington 98198; telephone: (206) 231-2415.

SUPPLEMENTARY INFORMATION: On July 17, 2020, the FAA published in the Federal Register notice of the availability of a Finding of No Significant Impact and Record of Decision (FONSI/ROD) for the Las Vegas Metroplex (LAS Metroplex) Final EA. The designs for five proposed procedures analyzed in the Final EA and approved for implementation in the FONSI/ROD require changes to comply with FAA safety criteria. This notice refers to these changes as the “Design Changes.”

Four of the Design Changes are to the designs of procedures at McCarran International Airport (KLAS): (1) HOOVER SEVEN Standard Instrument Departure (SID), (2) Area Navigation (RNAV) (Required Navigation Performance [RNP]) Z Runway (RWY) 19R approach, (3) RNAV (Global Positioning System [GPS]) Y RWY 19R approach, and (4) RNAV (RNP) Z RWY 19L approach. The fifth change is to the design of a procedure at nearby Henderson Executive Airport (KHND), the GAMES Standard Terminal Arrival Route (STAR).

To determine whether the Design Changes require supplementation of the Final EA, the FAA has analyzed the potential environmental effects from the Design Changes, consistent with FAA Order 1050.1F, Paragraph 9-2.c.(1), to determine whether the changes to the Final EA Design would be “substantial” and “relevant to environmental concerns,” i.e., “paint[s] a dramatically different picture of impacts compared to the description of impacts in the [Final] EA” (id., Paragraph 9-3). The FAA's analysis and determination are documented in a WR/ROD dated December 21, 2020. The WR/ROD analyzes the same environmental impact categories analyzed in the Final EA.

As documented in the WR/ROD, the FAA has determined that the Design Changes are not a substantial change in the FAA's proposed action, as analyzed in the Final EA for the Las Vegas Metroplex Project and approved in the FONSI/ROD, relevant to environmental concerns. The data and analyses contained in the Final EA and FONSI/ROD are still substantially valid and there are no significant new circumstances or information relevant to environmental concerns and bearing on the proposed action or its impacts. Accordingly, the WR/ROD also documents the FAA's decision not to prepare a supplement to the Final EA.

The WR/ROD is publicly available at https://www.faa.gov/air_traffic/community_involvement/las/ and http://www.metroplexenvironmental.com/las_metroplex/las_docs.html.

Issued in Des Moines, WA, on January 6, 2021.
Byron Chew,
Acting Group Manager, Operations Support Group, Western Service Center.

[FR Doc. 2021-00369 Filed 1-13-21; 8:45 am]

BILLING CODE 4910-13-P